DEPARTMENT OF ENERGY

Federal Energy Regulatory Commission

[Docket No. RP02-168-000]

Cove Point LNG Limited Partnership; Notice of Filing

March 7, 2002.

Take notice that on March 1, 2002 Cove Point LNG Limited Partnership (Cove Point) tendered for filing, pursuant to Section 1.37 of the General Terms and Conditions of Cove Point's FERC Gas Tariff, workpapers supporting the calculation of Cove Point's retention percentages for the annual period beginning April 1, 2002. Cove Point states that the proposed retention percentages for both the peaking services and transportation will remain unchanged from the currently effective retention percentages placed into effect April 1, 2001.

Cove Point states that copies of the filing are being mailed to its affected customers and interested State Commissions.

Any person desiring to be heard or to protest said filing should file a motion to intervene or a protest with the Federal Energy Regulatory Commission, 888 First Street, NE., Washington, DC 20426, in accordance with Sections 385.214 or 385.211 of the Commission's Rules and Regulations. All such motions or protests must be filed on or before March 14, 2002. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-5986 Filed 3-12-02; 8:45 am]

BILLING CODE 6717-01-P